DEPARTMENT OF COMMERCE

Economic Development Administration

Agency Information Collection Activities; Submission for OMB Review; Comment Request; EDA Workforce Data Collection Instrument

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on May 27, 2025 during a 60-day comment period. This notice allows for an additional 30 days for public comments.

Agency: Economic Development Administration (EDA), Commerce.

Title: EDA Workforce Data Collection Instrument.

OMB Control Number: 0610-0109.

Form Number(s): None.

Type of Request: Extension.

Number of Respondents: 6,090 total participants. System Lead Entities: 32 from FY 2021 and 8 from FY 2024. Training Providers: 1,000 from FY 2021 and 50 from FY 2024. Participants: 5,000 from FY 2021.

Average Hours per Response: Average hours per response is estimated to be 2 hours per response to complete the semiannual data collection on the system and corresponding characteristics. The estimate of average hours per response to complete the quarterly data collection on training providers and their training participants is 16.7 hours. System Lead Entities: 1 hour. Training Providers: 30 minutes. Participants: 5 minutes.

Burden Hours: 3,764.

Needs and Uses: To effectively administer and monitor its economic development assistance programs, EDA collects certain information from applications for, and recipients of, EDA investment assistance. Under EDA's Workforce Program, award recipients will be required to submit identified program metrics and information to ensure that EDA workforce investments are evidence-based and data-driven, and accountable to participants and the public. EDA will require information on three key award stakeholders: (1) System Lead Entity/Backbone Organization, defined as the lead entity of a regional workforce training system or sectoral partnership; (2) Training Providers, defined as entities providing relevant training and learning in a regional workforce training system; and (3) Participants, defined as individuals directly trained and placed into jobs via a regional workforce training system. System Lead Entities/Backbone Organizations will also coordinate with relevant employers to understand program performance from the employers' perspective. All process, output, and outcome metrics are associated with the following objectives:

• System Lead Entity/Backbone Organizations: (1) Establish, strengthen, or expand sectoral partnerships or regional workforce training systems; (2) Target distressed populations and areas to participate in the skills training program, including by securing and offering wrap-around services; (3) Support employers in filling demand for good-paying jobs, and (4) Leverage federal and non-federal funds to expand reach and support sustainability.

• Training Providers: Provide skills training to unemployed, underemployed, or incumbent workers with opportunity for increased wages through targeted upskilling to place them into quality jobs and provide employers with skilled workers.

• Participants: Position for employment and wage growth.

Affected Public: Recipients of Workforce Program awards, which may include a(n): District Organization; Indian Tribe or a consortium of Indian Tribes; State, county, city, or other political subdivision of a State, including a special purpose unit of a state or local government engaged in economic or infrastructure development activities, or a consortium of political subdivisions; institution of higher education or a consortium of institutions of higher education; or public or private non-profit organization or association, acting in cooperation with officials of a political subdivision of a State. Additionally, training providers and participants in regional workforce training systems will be affected.

Frequency: System Lead Entities from the FY 2021 Workforce program will respond semiannually. Training providers from the FY 2021 Workforce program will respond on a quarterly basis and participants will respond once. System lead entities and training providers from the FY 2024 workforce program will respond once. Participants from the FY 2024 workforce program will respond through a separate data collection instrument.

Respondent's Obligation: Mandatory.

Legal Authority: The Public Works and Economic Development Act of 1965 (42 U.S.C. 3121 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0109.

Sheleen Dumas,
Departmental PRA Compliance Officer, Office of the Under Secretary of Economic Affairs, Commerce Department.

[FR Doc. 2025-15041 Filed 8-6-25; 8:45 am]

BILLING CODE 3510-34-P